DEPARTMENT OF HEALTH AND HUMAN SERVICES

Centers for Disease Control and Prevention

[Program Announcement 01148]

Capacity-Building Assistance (CBA) To Develop and Implement Effective HIV/AIDS Prevention Education Programs for South African Trade Unions; Notice of Availability of Funds

A. Purpose

The Centers for Disease Control and Prevention (CDC) announces the availability of fiscal year (FY) 2001 funds for a cooperative agreement program for capacity-building assistance (CBA) to develop and implement effective HIV/AIDS prevention education programs for South African Trade Unions.

The purpose of the program is to provide financial and programmatic assistance to South African trade unions to develop and implement effective HIV/AIDS prevention education programs.

Note: For this program announcement, the term “capacity-building assistance” means the provision of information, new HIV prevention technologies, consultation, technical services, and training for individuals and organizations to improve the delivery and effectiveness of HIV prevention education.

Business and organized labor have taken an active role in enhancing a partnership between public health and private sector support for HIV prevention. The partnership was initiated as an effort to address workforce education about HIV and its routes of transmission as well as in establishing workplace policies to accommodate HIV in the workplace. This assistance seeks to engage South African trade unions in HIV prevention education and workplace policy development. The goal of the program is to strengthen the capacity of South African trade unions to implement effective HIV/AIDS prevention education programs. The capacity-building assistance program will provide the skills, information and training necessary to:

1. Strengthen the organizational infrastructures that support the delivery of effective HIV prevention services and interventions for union members whose behavior places them at risk for acquiring or transmitting HIV and other STDs;

2. Improve the capacity of trade unions to design, develop, implement and evaluate effective HIV prevention interventions for union members whose behavior places them at risk for acquiring or transmitting HIV and other STDs;

3. Improve the capacity of trade unions to respond to HIV-related issues in the workplace and public policy areas; and

4. Improve the capacity of trade unions to increase community awareness, leadership, participation and support for HIV prevention and care efforts within workers' communities.

B. Eligible Applicants

Applications may be submitted by public and private nonprofit organizations and by governments and their agencies and international organizations with a minimum of two (2) years of experience in developing and implementing and conducting on an ongoing basis, HIV/AIDS prevention activities in the workplace including trade unions.

Note: Title 2 of the United States Code, Chapter 26, Section 1611 states that an organization described in section 501(c)(4) of the Internal Revenue Code of 1986 that engages in lobbying activities is not eligible to receive Federal funds constituting an award, grant, cooperative agreement, contract, loan, or any other form.

C. Availability of Funds

Approximately $1,000,000 is available in FY 2001 to fund one award. It is expected that the award will begin on or about September 30, 2001 and will be made for a 12-month budget period within a project period of up to to five years. Funding estimates may change.

Continuation awards within an approved project period will be made on the basis of satisfactory progress as evidenced by required reports and the availability of funds. Satisfactory progress will be determined by site visits by CDC representatives and progress reports.

All requests for funds, including the budget contained in the application, shall be stated in U.S. dollars. Once an award is made, the Department of Health and Human Services (DHHS) will not compensate foreign grantees for currency exchange fluctuations through the issuance of supplemental awards.

1. Use of Funds

Funds available under this announcement must support activities directly related to primary HIV prevention and capacity-building assistance.

Funds received from this announcement will not be used for the purchase of antiretroviral drugs for treatment of established HIV infection (with the exception of nevirapin in PMTCT cases and with prior written approval), occupational exposures, and non-occupational exposures and will not be used for the purchase of machines and reagents to conduct the necessary laboratory monitoring for patient care.

No funds awarded under this announcement shall be used to carry out any program of distributing sterile needles or syringes for the hypodermic injection of any illegal drug.

These funds may not be used to supplant or duplicate existing funding. Applicants may contract with other organizations under these cooperative agreements, however, applicants must perform a substantial portion of the activities (including program management and operations and delivery of prevention services) for which funds are requested.

The costs that are generally allowable in grants to domestic organizations are likewise allowable to foreign institutions and international organizations, with the following exceptions:

Indirect Costs: With the exception of the American University, Beirut, the Gorgas Memorial Institute, and the World Health Organization, indirect costs will not be paid (either directly or through a sub-award) to organizations located outside the territorial limits of the United States or to international organizations regardless of their location.

D. Program Requirements

In conducting activities to achieve the purpose of this program, the recipient will be responsible for the activities under 1. (Recipient Activities), and CDC will be responsible for the activities listed under 2. (CDC Activities).

1. Recipient Activities

a. Create and support a national and regionally structured, capacity-building resource network that includes the applicant's current and proposed staff and other subject matter experts with expertise in strengthening organizational infrastructure, training, HIV/AIDS prevention education, and community mobilization;

b. Incorporate cultural competency and linguistic appropriateness into all capacity and skills building efforts, including those involving the development, production, dissemination, and marketing of health communication or prevention messages;

c. Coordinate program activities with relevant counterpart trade union HIV prevention programs to prevent duplication of efforts;

d. Monitor and evaluate all major program activities and services supported with CDC HIV prevention funds under this cooperative agreement;

e. Facilitate the dissemination of successful prevention interventions and program models through meetings, workshops, and conferences and comply with conference grant requirements;

f. Broaden the linkages with counterpart trade unions in the sub-Saharan region;

g. Compile “lessons learned” from the project and share these with network organizations and CDC; and

h. Develop and implement a plan for obtaining additional resources from non-CDC sources to supplement the program conducted through this cooperative agreement and to enhance the likelihood of its continuation after the end of the project period.

2. CDC Activities

a. Provide consultation and technical assistance, as needed, in planning, operating, and evaluating prevention activities.

b. Provide up-to-date scientific information regarding risk factors for HIV infection, prevention measures, and program strategies for prevention of HIV infection.

c. Assist as needed in the evaluation of program activities and services.

d. Facilitate the transfer of successful prevention interventions and program models to other geographic areas through convening meetings of grantees, workshops, conferences, and newsletters.

e. Monitor the recipient's performance of program activities, protection of client confidentiality and compliance with other requirements.

f. Facilitate, as needed, exchange of program information and technical assistance between trade unions, non-governmental organizations, business and governmental agencies in the 15 Global AIDS Program (GAP) countries in Africa and India.

E. Application Content

Use the information in the Program Requirements, Other Requirements, and Evaluation Criteria sections to develop the application content. Your application will be evaluated on the criteria listed, so it is important to follow them in laying out your program plan. The narrative should be no more than 45 double-spaced pages (excluding abstract, attachments and appendixes), printed on one side, with one inch margins, and unreduced font.

Number each page clearly, and provide a complete index to the application and its appendices. Please begin each separate section of the application on a new page. The original and each copy of the application set must be submitted unstapled and unbound. All material must be typewritten, single spaced, with unreduced type on 8-½″ by 11″ paper, with at least 1″ margins, headings and footers, and printed on one side only. Materials which should be part of the basic plan will not be accepted if placed in the appendices. The narrative should consist of, at a minimum, a Plan, Objectives, Methods, Evaluation, and Budget.

F. Submission and Deadline

Application

Submit the original and two copies of PHS 5161-1 (OMB Number 0920-0428). Forms are available in the application kit and at the following Internet address: www.cdc.gov/od/pgo/forminfo.htm.

On or before August 24, 2001, submit the application to the Grants Management Specialist identified in the “Where to Obtain Additional Information” section of this announcement.

Deadline: Applications shall be considered as meeting the deadline if they are either:

1. Received on or before the deadline date; or

2. Sent on or before the deadline date and received in time for submission to the independent review group. (Applicants must request a legibly dated U.S. Postal Service postmark or obtain a legibly dated receipt from a commercial carrier or U.S. Postal Service. Private metered postmarks shall not be acceptable as proof of timely mailing.)

Late Applications: Applications which do not meet the criteria in 1. or 2. above will be returned to the applicant.

G. Evaluation Criteria

Each application will be evaluated individually against the following criteria by an independent review group appointed by CDC.

1. Abstract Not To Exceed two Pages (Not Scored)

2. Organizational History and Capacity (25 Points)

The extent to which the applicant:

a. Describes existing organizational structure, including constituent or affiliate organizations or networks, how the organizational structure will support the proposed program activities, and how the structure offers the capacity to reach targeted populations.

b. Describes past and current experience in developing and implementing effective HIV prevention strategies and activities, and in developing and implementing programs similar to the one proposed in this application.

c. Describes the organization's capacity to provide culturally competent and appropriate services that respond effectively to the cultural, gender, environmental, social and multilingual character of the target populations, including any history of providing such services.

d. Describes experience in collaborating with international and developing country organizations that provide HIV prevention services.

3. Description of Target Population and Needs Assessment (20 Points)

The extent to which the applicant:

a. Describes the target populations to be served through the proposed program, including the approximate number of persons to be reached; and describes the impact of HIV/AIDS on the community and any other specific environmental, social, cultural, or multilingual characteristics of the target populations that the program will consider and address in developing prevention strategies.

b. The extent to which the applicant lists and briefly describes current HIV prevention and risk-reduction efforts under way among the target populations and outline major gaps in the provision of prevention services for the target populations:

(1) Explains specific barriers to the dissemination of adequate HIV prevention information and education that exist or have existed;

(2) Explains the unmet HIV prevention needs that exist in the target community and opportunities for creating linkages with trade unions in the U.S. and the 15 GAP countries in Africa and India; and

(3) Identifies and describes the HIV prevention needs of the target populations that the proposed program will directly address.

4. Program Objectives (15 Total Points)

The extent to which the applicant provides specific, realistic, time-phased and measurable objectives to be accomplished during the first budget period; and describes the expected outcomes of program activities on its target population(s).

5. Program Plan (25 Points)

The extent to which the applicant:

(a) Describes the activities that will be undertaken and specific interventions that will be provided to meet the objectives within projected time frames during the first program year; outlines major steps necessary to attain specified objectives; and notes the approximate dates by which activities will be accomplished. The applicant should note all major activities which will represent necessary milestones in the attainment of objectives;

(b) Describes how participation and input will be obtained from appropriate service groups or organizations, how collaborative relationships with other agencies and organizations will be established and maintained, and the extent to which the applicant describes how members of the target population will be involved in planning, implementing, and evaluating activities and services throughout the project period;

(c) Does the applicant include, as attachments, memoranda of understanding or agreement as evidence of these established or agreed upon collaborative relationships and provide a description of how the proposed program fills gaps left by existing programs as determined by the needs assessment must also be included.

(d) The extent to which the applicant describes specific behaviors and practices that the interventions are designed to promote and prevent (e.g., increases in correct and consistent condom use, knowledge of serological status, not sharing needles, and enrollment in drug treatment and other preventive programs);

(e) The extent to which the applicant describes how the proposed priority interventions and services are culturally competent, sensitive to issues of sexual identity, developmentally appropriate, linguistically-specific, and educationally appropriate.

6. Evaluation Plan (15 Points)

(a) The extent to which the applicant's plan describes specific methods to assess the effectiveness of services, monitor activities and assess the achievement of objectives during the first year of the program.

(b) The extent to which the applicant describes how information will be obtained, including a description of methods which will be implemented to gather and record data, and in what manner it will be summarized for Quarterly Progress Reports.

(c) The extent to which the applicant describes how data will be used to improve the program and how successful approaches and “lessons learned” will be shared with other organizations.

7. Personnel (Not Scored)

The appropriateness of the staffing pattern for the proposed project. The extent to which the applicant describes how the proposed program will be managed and staffed, including the location of the program within the organization; describes in detail each existing or proposed position for this program by job title, function, general duties, and activities with which that position will be involved. It should include the level of effort and allocation of time for each project activity by staff position. If the identity of any individual who will fill a position is known, her/his name and curriculum vitae (not to exceed one page each) should be attached. Experience and training related to the proposed project should be noted. If the identity of staff is not known, the extent to which the applicant describes a recruitment plan. If volunteers are involved in the project, provides job descriptions and methods to ensure accountability to the project.

8. Budget (Not Scored)

The appropriateness of the budget for the proposed project. The extent to which the applicant provides a detailed budget for each priority activity to be undertaken, with accompanying justification of all operating expenses that is consistent with the stated objectives and planned activities of the project. CDC may not approve or fund all proposed activities. Applicants should be precise about the program purpose of each budget item, and should itemize calculations wherever appropriate.

For the personnel section, the job title, annual salary/rate of pay, and percentage of time spent on this program should be indicated.

For contracts contained within the application budget, applicants should name the contractor, if known; describe the services to be performed; justify using a third party; provide a breakdown of and justification for the estimated costs of the subcontracts; the kinds of organizations or parties to be selected; the period of performance; and the method of selection.

H. Other Requirements

Technical Reporting Requirements

Provide CDC with original plus two copies of:

1. Quarterly progress reports;

2. Financial status report, no more than 90 days after the end of the budget period;

3. Final financial and performance reports, no more than 90 days after the end of the project period; and

4. Annual audit of these CDC funds (program-specific) audit) by a U.S.-based audit firm with international branches and current licensure/authority in-country, and in accordance with International Accounting Standards or equivalent standard(s) approved in writing by CDC.

Send all reports to the Grants Management Specialist identified in the “Where to Obtain Additional Information” section of this announcement.

A fiscal Recipient Capability Assessment may be required, pre or post award, with the potential awardee in order to review their business management and fiscal capabilities regarding the handling of U.S. Federal funds.

The following additional requirements are applicable to this program. For a complete description of each, see Attachment I of the announcement.

AR-4—HIV/AIDS Confidentiality Provisions

AR-12—Lobbying Restrictions

AR-14—Accounting System Requirements

AR-15—Proof of Non-Profit Status

I. Authority and Catalog of Federal Domestic Assistance Number

This program is authorized under section 301 and 307 of the Public Health Service Act [42 U.S.C. section 241 and 242], as amended and section 104 of the Foreign Assistance Act of 1961, 22 U.S.C. 215b. The Catalog of Federal Domestic Assistance number is 93.941.

J. Where To Obtain Additional Information

This and other CDC [ATSDR] announcements can be found on the CDC home page Internet address— http://www.cdc.gov Click on “Funding” then “Grants and Cooperative Agreements.”

To obtain business management technical assistance, contact: Dorimar Rosado, Grants Management Specialist, Grants Management Branch, Procurement and Grants Office, Centers for Disease Control and Prevention, 2920 Brandywine Road, Room 3000, Atlanta, GA 30341-4146, Telephone number: 770-488-2782 or 2720, email address: dpr7@cdc.gov

For program technical assistance, contact: David Allen, MD, U.S. Embassy, P.O. Box 9536, (877 Pretorrius Street), Pretoria, 0001, South Africa, Telephone: 27 12 312 0127, E-mail: allend@health.gov.za

Dated: July 23, 2001.
John L. Williams,
Director, Procurement and Grants Office, Centers for Disease Control and Prevention.

[FR Doc. 01-18757 Filed 7-26-01; 8:45 am]

BILLING CODE 4163-18-P